DEPARTMENT OF HOMELAND SECURITY

[Docket No. FEMA-2008-0010]

National Fire Academy Board of Visitors

AGENCY: Federal Emergency Management Agency, DHS.

ACTION: Committee Management; Notice of Open Teleconference Federal Advisory Committee Meeting.

SUMMARY: The National Fire Academy Board of Visitors will meet by teleconference on February 3, 2009.

DATES: The teleconference will take place Tuesday, February 3, 2009, from10 a.m. to 12 p.m., e.s.t.

ADDRESSES: Members of the public who wish to obtain the call-in number, access code, and other information for the public teleconference may contact Teressa Kaas as listed in the FOR FURTHER INFORMATION CONTACT section by February 2, 2009, as the number of teleconference lines is limited and available on a first-come, first served basis. Members of the public may also participate by coming to the National Emergency Training Center, Building H, Room 300, Emmitsburg, Maryland. Members of the general public who plan to participate in the meeting should contact Teressa Kaas as listed in the FOR FURTHER INFORMATION CONTACT, on or before February 2, 2009. Requests to have written material distributed to each member of the committee prior to the meeting should reach the contact person at the address below by February 2, 2009. Send written material to Teressa Kaas, 16825 South Seton Avenue, Emmitsburg, Maryland 21727. Comments must be identified by FEMA-2008-0010 and may be submitted by one of the following methods:

• Federal eRulemaking Portal: http://www.regulations.gov. Follow the instructions for submitting comments.

• E-mail: FEMA-RULES@dhs.gov. Include docket number in the subject line of the message.

• Fax: (866) 466-5370.

• Mail: Teressa Kaas, 16825 South Seton Avenue, Emmitsburg, Maryland 21727.

Instructions: All submissions received must include the docket number for this action. Comments received will be posted without alteration at http://www.regulations.gov, including any personal information provided.

Docket: For access to the docket to read background documents or comments received by the National Fire Academy Board of Visitors, go to http://www.regulations.gov.

FOR FURTHER INFORMATION CONTACT: Teressa Kaas, 16825 South Seton Avenue, Emmitsburg, Maryland 21727, telephone (301) 447-1117, fax (301) 447-1173, and e-mail teressa.kaas@dhs.gov.

SUPPLEMENTARY INFORMATION: Notice of this meeting is given under the Federal Advisory Committee Act, 5 U.S.C. App. (Pub. L. 92-463). The National Fire Academy Board of Visitors will be holding a teleconference for purposes of reviewing National Fire Academy Program activities, including the status of facility capital improvements, the budget update, the National Professional Development Committee Report, the Academy update, Board discussions and new items. This meeting is open to the public.

The Chairperson of the National Fire Academy Board of Visitors shall conduct the teleconference in a way that will, in his judgment, facilitate the orderly conduct of business. During its teleconference, the committee welcomes public comment; however, comments will be permitted only during the public comment period. The Chairperson will make every effort to hear the views of all interested parties. Please note that the teleconference may end early if all business is completed.

Information on Services for Individuals With Disabilities

For information on facilities or services for individuals with disabilities or to request special assistance at the meeting, contact Teressa Kaas as soon as possible.

Dated: December 31, 2008.
Denis G. Onieal,
Superintendent, National Fire Academy, U.S. Fire Administration, Federal Emergency Management Agency.

[FR Doc. E9-79 Filed 1-7-09; 8:45 am]

BILLING CODE 9110-17-P